DEPARTMENT OF THE INTERIOR

Fish and Wildlife Service

Information Collection Renewal Sent to the Office of Management and Budget (OMB) for Approval Under the Paperwork Reduction Act; OMB Control Number 1018-0120; Federal Subsistence Regional Advisory Council Membership Application/Nomination and Interview Forms

AGENCY: Fish and Wildlife Service, Interior.

ACTION: Notice; request for comments.

SUMMARY: We (Fish and Wildlife Service) have sent the information collection described below to OMB for approval under the provisions of the Paperwork Reduction Act. We use this information to screen and rank applicants for membership on the Federal Subsistence Regional Advisory Councils (Regional Councils).

DATES: You must submit comments on or before March 27, 2006.

ADDRESSES: Send your comments and suggestions on this information collection renewal to the Desk Officer for the Department of the Interior at OMB-OIRA at (202) 395-6566 (fax) or OIRA_DOCKET@OMB.eop.gov (e-mail). Please provide a copy of your comments to Hope Grey, Information Collection Clearance Officer, Fish and Wildlife Service, MS 222-ARLSQ, 4401 North Fairfax Drive, Arlington, VA 22203 (mail); (703) 358-2269 (fax); or hope_grey@fws.gov (e-mail).

FOR FURTHER INFORMATION CONTACT: To request a copy of the information collection requirement, explanatory information, or related forms, contact Hope Grey at the addresses above or by telephone at (703) 358-2482.

SUPPLEMENTARY INFORMATION: OMB regulations at 5 CFR 1320, which implement provisions of the Paperwork Reduction Act of 1995 (44 U.S.C. 3501 et seq.), require that interested members of the public and affected agencies have an opportunity to comment on information collection and recordkeeping activities (see CFR 1320.8(d)). We have sent a request to OMB to renew approval for our collection of information associated with the recruitment of members for the Regional Councils. The OMB control number for this information collection is 1018-0120, which expires on February 28, 2006. OMB has up to 60 days to approve or disapprove our request for renewal, but may respond in as early as 30 days. To ensure consideration, send your comments to OMB by the date listed in the DATES section. Federal agencies may not conduct or sponsor and a person is not required to respond to a collection of information unless it displays a currently valid OMB control number.

Title VIII of the Alaska National Interest Lands Conservation Act (16 U.S.C. 3101) designates the Departments of the Interior and Agriculture as the key agencies responsible for implementing the subsistence priority on Federal public lands for rural Alaska residents. These responsibilities include the establishment of Regional Councils with members from each region who are knowledgeable about the region and subsistence uses of the public lands. One-third of the seats on the Regional Councils become vacant each year. Additional vacancies may occur due to resignations or deaths of sitting members. We currently use forms 7-FW 4, 7-FW 5, and 7-FW 6 to collect information during the recruitment process. During this renewal process, we reformatted and streamlined these forms and assigned Fish and Wildlife Service form numbers. We will ask OMB to approve FWS Form 3-2321 (Federal Subsistence Regional Advisory Council Membership Application/Nomination), FWS Form 3-2322 (Regional Advisory Council Candidate Interview Form), and FWS Form 3-2323 (Regional Advisory Council Reference/Key Contact Interview Form). These proposed new forms collect the identical information as the current OMB-approved forms, but in an improved format.

On November 23, 2005, we published in the Federal Register (70 FR 70874) a 60-day notice of our intent to request renewal of information collection authority from OMB. In that notice, we solicited public comments for 60 days, ending on January 23, 2006. We received one comment. The commenter did not address the necessity, clarity, or accuracy of the information collection, but instead provided general comments on the membership of the Regional Councils and the humane treatment of fish and wildlife. We did not make any changes to our information collection based on this comment.

Title: Federal Subsistence Regional Advisory Council Membership Application/Nomination and Interview Forms.

OMB Control Number: 1018-0120.

Form Numbers: FWS Form 3-2321, FWS Form 3-2322, and FWS Form 3-2323.

Frequency of Collection: Annually.

Description of Respondents: Alaska residents.

X
Form No. | Number of annual responses | Average burden hour per response | Total annual burden hours
FWS Form 3-2321 | 100 | 2 | 200
FWS Form 3-2322 | 100 | .5 | 50
FWS Form 3-2323 | 400 | .25 | 100
Total | 600 |  | 350

Each person desiring to serve on a Regional Council must complete FWS Form 3-2321. Persons nominating other individuals for membership must also complete this form. Applicants provide information on (1) their knowledge of fish and wildlife resources as well as subsistence and other uses of the resources; (2) their service on working groups, conservation committees, etc.; (3) how they would represent the people in the region; and (4) their willingness to travel and attend meetings. In addition, applicants must provide three references.

Federal staff will use FWS Form 3-2322 to conduct applicant interviews by telephone. Respondents do not see the printed form. Interviewers will ask questions regarding the applicant's willingness to serve on the Regional Council and will ask the applicant to explain information provided on FWS Form 3-2321.

Federal staff will use FWS Form 3-2323 (Regional Council Reference/Key Contact Interview Form) to conduct interviews of references/key contacts for prospective Regional Council members. We conduct all interviews by telephone and the respondents do not see the printed form. Interviewers will ask questions about the applicant's (1) knowledge of fish and wildlife resources as well as subsistence practices and commercial/sport activities; (2) leadership ability; and (3) ability to communicate.

The Federal Subsistence Board uses this information to make recommendations to the Secretary of the Interior for appointment of members to the Regional Councils. We restrict the information collected to the Regional Council member selection process and only to staff that the Federal Subsistence Board deems necessary. The information collections in this program are part of a system of records covered by the Privacy Act (5 U.S.C. 552(a)).

We invite comments concerning this proposed information collection on: (1) Whether or not the collection of information is necessary for the proper selection of Regional Council members, including whether or not the information will have practical utility; (2) the accuracy of our estimate of the burden of the collection of information; (3) ways to enhance the quality, utility, and clarity of the information to be collected; and, (4) ways to minimize the burden of the collection of information on respondents.

Dated: January 30, 2006.
Hope G. Grey,
Information Collection Clearance Officer, Fish and Wildlife Service.

[FR Doc. E6-2681 Filed 2-23-06; 8:45 am]

BILLING CODE 4310-55-P